DEPARTMENT OF THE TREASURY

Internal Revenue Service

26 CFR Part 1

[TD 9470]

RIN 1545-BH69

Information Reporting Requirements Under Internal Revenue Code Section 6039; Correction

AGENCY: Internal Revenue Service (IRS), Treasury.

ACTION: Correction to final regulations.

SUMMARY: This document contains corrections to final regulations (TD 9470) that were published in the Federal Register on Tuesday, November 17, 2009 (74 FR 59087) relating to the return and information statement requirements under section 6039 of the Internal Revenue Code.

DATES: This correction is effective on December 22, 2009, and is applicable on November 17, 2009.

FOR FURTHER INFORMATION CONTACT: Thomas Scholz or Ilya Enkishev, (202) 622-6030 (not a toll-free number).

SUPPLEMENTARY INFORMATION:

Background

The final regulations (TD 9470) that are the subject of this document are under section 6039 of the Internal Revenue Code.

Need for Correction

As published, the final regulations (TD 9470) contain errors that may prove to be misleading and are in need of clarification.

Correction of Publication

Accordingly, the publication of the final regulations (TD 9470), which were the subject of FR Doc. E9-27451, is corrected as follows:

1. On page 59087, column 3, in the preamble, under the caption “DATES:”, the language “Applicability Date: For dates of applicability, see §§ 1.6039-1(g) and 1.6039-2(e).” is corrected to read “Applicability Date: For dates of applicability, see §§ 1.6039-1(f) and 1.6039-2(e).”.

2. On page 59089, column 3, in the preamble, under the paragraph heading “c. Requirement of Return and Information Statement Under Section 6039(a)(2) and (b)”, first paragraph of the column, second through eighth lines, the language “423(c) relates to the exercise price of the option (as evidenced by the parenthetical phrase in 6039(a)(2) following the reference to section 423(c)) rather than whether or not the shares are disposed of in a qualifying disposition as also described in 423(c).” is corrected to read “section 423(c) relates to the exercise price of the option (as evidenced by the parenthetical phrase in section 6039(a)(2) following the reference to section 423(c)) rather than whether or not the shares are disposed of in a qualifying disposition as also described in section 423(c).”.

LaNita Van Dyke,
Chief, Publications and Regulations Branch, Legal Processing Division, Associate Chief Counsel (Procedure and Administration).

[FR Doc. E9-30349 Filed 12-21-09; 8:45 am]

BILLING CODE 4830-01-P